DEPARTMENT OF HEALTH AND HUMAN SERVICES

National Institutes of Health

National Eye Institute Meeting

ACTION: Notice of meeting.

SUMMARY: Pursuant to the NIH Reform Act of 2006 (42 U.S.C. 281(d)(4)), notice is hereby given that the National Eye Institute will host a meeting to enable public discussion of the Institute's proposal to rename its Division of Extramural Research to the Division of Extramural Science and establish a new Division of Extramural Activities. The proposal seeks to clearly delineate functions and streamline the services provided by adding focus to scientific programs and extramural operations. This proposed change aligns NEI with the structure of other NIH Institutes and Centers.

DATES: The public hearing will be available to view on October 23, 2014.

ADDRESSES: The public hearing will be recorded at the National Eye Institute, 31 Center Drive, Bethesda, MD 20892. To comment or ask a question about the reorganization, please send an email to the following address: NEIOrgChangeComment@mail.nih.gov. To view the webinar, which will be posted on YouTube on October 23, 2014, go to the following Web site: www.nei.nih.gov/DEROrgChange.

FOR FURTHER INFORMATION CONTACT: Aytaj Vily, National Eye Institute, NIH, MPAB, 31 Center Drive, Bethesda, MD 20892, at NEIOrgChangeComment@mail.nih.gov.

Members of the public wishing to have their questions or comments addressed related to this presentation on the reorganization need to send them to the following email address: NEIOrgChangeComment@mail.nih.gov. Individuals will be able to watch the presentation via a YouTube webinar. Please go to the following link to view the webinar: www.nei.nih.gov/DEROrgChange.

Any interested person may file written comments by sending an email to the following email address: NEIOrgChangeComment@mail.nih.gov, by October 30, 2014. The statement should include the individual's name and, when applicable, professional affiliation. Responses will be sent by November 4, 2014.

SUPPLEMENTARY INFORMATION: The agenda of the public meeting will enable public discussion on the proposed reorganization plans for NEI. This meeting will be in the form of a webinar posted on YouTube on October 23, 2014. 508 Compliance Note: All training or informational video and multimedia productions made available to the public must be captioned (user selects the captioning to be turned on so that the words appear on the screen) for persons who are hard of hearing or deaf, and the audio described (spoken words) for persons who are blind or have low vision. The following email address has been established to receive questions and/or comments on the reorganization: NEIOrgChangeComment@mail.nih.gov. It will remain available, through October 30, to the public for comments after the YouTube webinar has been aired. To watch the webinar on YouTube, go to: www.nei.nih.gov/DEROrgChange to view/access the presentation.

Dated: October 1, 2014.
Vicki Buckley,
Acting Executive Officer, National Eye Institute, National Institutes of Health.

[FR Doc. 2014-25068 Filed 10-21-14; 8:45 am]

BILLING CODE 4140-01-P